NUCLEAR REGULATORY COMMISSION

10 CFR Part 50

[Docket No. PRM-50-123; NRC-2020-0155]

Public Protective Actions During a General Emergency

AGENCY: Nuclear Regulatory Commission.

ACTION: Petition for rulemaking; notice of docketing and request for comment.

SUMMARY: The U.S. Nuclear Regulatory Commission (NRC) has received a petition for rulemaking from Thomas McKenna, dated June 1, 2020. The petitioner requests that the NRC revise its regulations so that protective actions implemented during a General Emergency at a nuclear power plant will most likely do more good than harm when the possible physical health effects of radiation exposure and protective actions are taken into consideration. The petition was docketed by the NRC on June 24, 2020, and has been assigned Docket No. PRM-50-123. The NRC is examining the issues raised in PRM-50-123 to determine whether they should be considered in rulemaking. The NRC is requesting public comment on this petition at this time.

DATES: Submit comments by November 16, 2020. Comments received after this date will be considered if it is practical to do so, but the NRC is able to assure consideration only for comments received on or before this date.

ADDRESSES: You may submit comments by any of the following methods:

• Federal Rulemaking Website: Go to https://www.regulations.gov and search for Docket ID NRC-2020-0155. Address questions about NRC dockets to Carol Gallagher; telephone: 301-415-3463; email: Carol.Gallagher@nrc.gov. For technical questions contact the individual listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Pamela Noto, Office of Nuclear Material Safety and Safeguards, U.S. Nuclear Regulatory Commission, Washington, DC 20555-0001; telephone: 301-415-6795; email: Pamela.Noto@nrc.gov.

SUPPLEMENTARY INFORMATION:

I. Obtaining Information and Submitting Comments

A. Obtaining Information

Please refer to Docket ID NRC-2020-0155 when contacting the NRC about the availability of information for this action. You may obtain publicly-available information related to this action by any of the following methods:

• Federal Rulemaking Website: Go to https://www.regulations.gov and search for Docket ID NRC-2020-0155.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• Attention: The Public Document Room (PDR), where you may examine and order copies of public documents is currently closed. You may submit your request to the PDR via email at pdr.resource@nrc.gov or call 1-800-397-4209 between 8:00 a.m. and 4:00 p.m. (EST), Monday through Friday, except Federal holidays.

B. Submitting Comments

Please include Docket ID NRC-2020-0155 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioner

The petition for rulemaking (PRM) was filed by Thomas McKenna, who stated in his petition that he has worked in emergency preparedness and response at both the NRC and the International Atomic Energy Agency and is one of the authors of the NRC's 1996 draft guidance on initial protective actions in the event of a severe accident. The draft guidance, NUREG-0654/FEMA-REP-1, Rev. 1, Supp. 3, “Criteria for Preparation and Evaluation of Radiological Emergency Response Plans and Preparedness in Support of Nuclear Power Plants: Criteria for Protective Action Recommendations for Severe Accidents,” dated July 1996, may be found in ADAMS at Accession No. ML051120480.

III. The Petition

The petitioner requests that the NRC amend part 50 of title 10 of the Code of Federal Regulations (10 CFR) such that public protective actions implemented during a General Emergency at a nuclear power plant will most likely do more good than harm when the possible physical health effects of radiation exposure and protective actions are taken into consideration. The petition may be found in ADAMS at Accession No. ML20176A313.

IV. Discussion of the Petition

The petitioner asserts that protective actions taken in accordance with NRC guidance during a General Emergency may cause 12 times more excess deaths among the public and 15 times more excess deaths among elderly residents of care facilities than caused by radiation exposure due to the General Emergency. The petitioner states that an objective of emergency response plans has been to provide dose savings and that the NRC's requirements were not established on a risk-informed basis that justifies protective actions will do more good than harm. The petitioner states that the NRC requirements are based on analyses that are 40 or more years old in some cases and do not reflect the latest studies of nuclear power plant emergencies, which project much smaller releases and thus result in smaller radiation-induced health consequences. The petitioner asks that the NRC carefully reexamine the agency's regulations and implementing guidance on protective actions during a General Emergency.

V. Conclusion

The NRC has determined that the petition meets the sufficiency requirements for docketing a PRM under 10 CFR 2.803, “Petition for rulemaking-NRC action.” The NRC will examine the issues raised in PRM-50-123 and any comments received in response to this comment request to determine whether these issues should be considered in rulemaking.

Dated: August 21, 2020.
For the Nuclear Regulatory Commission.
Annette L. Vietti-Cook,
Secretary of the Commission.

[FR Doc. 2020-18746 Filed 8-28-20; 8:45 am]

BILLING CODE 7590-01-P